DEPARTMENT OF THE TREASURY

Internal Revenue Service

26 CFR Parts 1, 20 and 25

[REG-100291-00]

RIN 1545-AX74

Lifetime Charitable Lead Trusts; Hearing Cancellation

AGENCY: Internal Revenue Service (IRS), Treasury.

ACTION: Cancellation of notice of public hearing on proposed rulemaking.

SUMMARY: This document provides notice of cancellation of a public hearing on proposed regulations relating to lifetime charitable lead trusts.

DATES: The public hearing originally scheduled for Tuesday, June 27, 2000, at 10 a.m., is canceled.

FOR FURTHER INFORMATION CONTACT: Guy Traynor of the Regulations Unit, Assistant Chief Counsel (Corporate), at (202) 622-7180 (not a toll-free number).

SUPPLEMENTARY INFORMATION: A notice of proposed rulemaking and notice of public hearing that appeared in the Federal Register on Wednesday, April 5, 2000 (65 FR 17835), announced that a public hearing was scheduled for June 29, 2000, at 10 a.m., in room 4718, Internal Revenue Building, 1111 Constitution Avenue NW., Washington, DC. The subject of the public hearing is proposed regulations under sections 170, 2055, and 2522, of the Internal Revenue Code. The deadline for requests to speak and outlines of oral comments expired on June 8, 2000.

The notice of proposed rulemaking and notice of public hearing, instructed those interested in testifying at the public hearing to submit a request to speak and an outline of the topics to be addressed. As of June 12, 2000, no one has requested to speak. Therefore, the public hearing scheduled for June 29, 2000, is canceled.

Cynthia E. Grigsby,
Chief, Regulations Unit, Assistant Chief Counsel (Corporate).

[FR Doc. 00-15434 Filed 6-19-00; 8:45 am]

BILLING CODE 4830-01-U